CONSUMER FINANCIAL PROTECTION BUREAU

12 CFR Part 1005

[Docket No. CFPB-2025-0003]

Electronic Fund Transfers Through Accounts Established Primarily for Personal, Family, or Household Purposes Using Emerging Payment Mechanisms; Withdrawal

AGENCY: Consumer Financial Protection Bureau.

ACTION: Proposed interpretive rule; withdrawal.

SUMMARY: The Consumer Financial Protection Bureau (Bureau) is withdrawing a proposed interpretive rule, Electronic Fund Transfers Through Accounts Established Primarily for Personal, Family, or Household Purposes Using Emerging Payment Mechanisms. The Bureau will not take any further action on this proposed interpretive rule.

DATES: The proposed interpretive rule is withdrawn as of May 15, 2025.

ADDRESSES: You can view and download related documents and public comments by going to the website http://www.regulations.gov. Enter the docket number CFPB-2025-0003 in the search field.

FOR FURTHER INFORMATION CONTACT: George Karithanom, Regulatory Implementation and Guidance Program Analyst, Office of Regulations, at 202-435-7700. If you require this document in an alternative electronic format, please contact CFPB_Accessibility@cfpb.gov.

SUPPLEMENTARY INFORMATION: The Bureau is withdrawing the notice of proposed interpretive rule, Electronic Fund Transfers Through Accounts Established Primarily for Personal, Family, or Household Purposes Using Emerging Payment Mechanisms. 90 FR 3723 (Jan. 15, 2025). The proposed interpretive rule was intended to assist companies, investors, and other market participants evaluating existing statutory and regulatory requirements governing electronic fund transfers (EFTs). For example, it provides definitions of relevant terms, such as “financial institution,” “funds,” and “account,” and explains consumer protections under applicable laws like the Electronic Fund Transfer Act (EFTA).

The Bureau is withdrawing this notice of proposed interpretive rule because further rulemaking action with respect to this proposal does not align with current agency needs, priorities, or objectives. The Bureau is continuing to evaluate the need for guidance related to the legal requirements associated with EFTs and will take further action if deemed necessary.

Moreover, the comments received on this notice of proposed interpretive rule raise multiple issues warranting further attention related to, for example, whether the proposed interpretive rule properly interprets the EFTA. The Bureau is therefore withdrawing the notice of proposed interpretive rule. Should the Bureau determine that an interpretive rule related to the legal requirements associated with EFTs is necessary in the future, the Bureau believes such proposal would benefit from an additional comment period on any proposals accounting for the issues raised by commenters.

Authority and Issuance

For each of these independently sufficient reasons, the Bureau is withdrawing the notice of proposed interpretive rule.

Russell Vought,
Acting Director, Consumer Financial Protection Bureau.

[FR Doc. 2025-08646 Filed 5-14-25; 8:45 am]

BILLING CODE 4810-AM-P